DEPARTMENT OF ENERGY

Federal Energy Regulatory Commission

[Docket No. EL08-6-000]

Sierra Pacific Power Company and Nevada Power Company; Notice of Institution of Proceeding and Refund Effective Date

November 14, 2007.

On November 13, 2007, the Commission issued an order that instituted a proceeding in the above-referenced docket, pursuant to Section 206 of the Federal Power Act (FPA) 16 U.S.C. 824e, concerning the justness and reasonableness of Sierra Pacific Power Company's and Nevada Power Company's rates, as discussed in the November 13, 2007 Order. Sierra Pacific Power Company and Nevada Power Company, 121 FERC ¶ 61,160 (2007).

The refund effective date in the above-docketed proceeding, established pursuant to section 206(b) of the FPA, will be the date of publication of this notice in the Federal Register.

Kimberly D. Bose,
Secretary.

[FR Doc. E7-22826 Filed 11-21-07; 8:45 am]

BILLING CODE 6717-01-P